NATIONAL AERONAUTICS AND SPACE ADMINISTRATION

[Notice (03-126)]

Government-Owned Inventions, Available for Licensing

AGENCY: National Aeronautics and Space Administration

ACTION: Correction.

SUMMARY: The invention listed below is assigned to the National Aeronautics and Space Administration, has been filed in the United States Patent and Trademark Office, and is available for licensing.

DATES: October 8, 2003.

FOR FURTHER INFORMATION CONTACT: Linda Blackburn, Patent Counsel, Langley Research Center, Mail Code 212, Hampton, VA 23681-2199; telephone (757) 864-9260; fax (757) 864-9190.

NASA Case No. LAR-15712-2-CU: Optical Path Switching Based Differential Absorption Radiometry For Substance Detection (was incorrect title) the correct title should have been:

NASA Case No. LAR-15712-2-CU: Method for the Detection of Volatile Organic Compounds Using a Catalytic Oxidation Sensor.

Dated: September 25, 2003.
Robert M. Stephens,
Deputy General Counsel.

[FR Doc. 03-25496 Filed 10-7-03; 8:45 am]

BILLING CODE 7510-01-P